NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of the addition of an agenda item in the plenary closed session of the National Science Board meetings on February 3, 2016, as shown below. The original notice appeared in the Federal Register on January 29, 2016 at 81 FR 70259.

Amended Agenda

Plenary Board meeting

Closed session: 12:30-1:00 p.m.

NSB Chair's remarks

Approval of closed plenary minutes for November 2015

Approval of Stampede 2 preliminary resolution

Approval of Gemini preliminary resolution

Discussion and approval of Board's next steps regarding NEON (ADDED)

Closed committee reports

NSB Chair's closing remarks

UPDATES: Please refer to the National Science Board Web site for additional information. Meeting information and schedule updates (time, place, subject matter or status of meeting) may be found at http://www.nsf.gov/nsb/meetings/notices.jsp.

AGENCY CONTACT: Ron Campbell, jrcampbe@nsf.gov, 703-292-7000.

Kyscha Slater-Williams,
Program Specialist, National Science Board.

[FR Doc. 2016-02362 Filed 2-3-16; 11:15 am]

BILLING CODE 7555-01-P